SMALL BUSINESS ADMINISTRATION

[License No. 02320669]

Morgan Stanley Impact SBIC LP; Surrender of License of Small Business Investment Company

Pursuant to the authority granted to the United States Small Business Administration under Section 309 of the Small Business Investment Act of 1958, as amended, and 13 CFR 107.1900 of the Code of Federal Regulations to function as a small business investment company under the Small Business Investment Company License No. 02320669 issued to Morgan Stanley Impact SBIC LP, said license is hereby declared null and void.

Paul Salgado
Director, Investment Portfolio Management, United States Small Business Administration.

[FR Doc. 2025-13823 Filed 7-22-25; 8:45 am]

BILLING CODE 8026-09-P